DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 75 FR 62554-62559, dated October 12, 2010) is amended to reflect the reorganization of the National Center for Injury Prevention and Control, Office of Noncommunicable Diseases, Injury and Environmental Health, Centers for Disease Control and Prevention.

Section C-B, Organization and Functions, is hereby amended as follows:

After the title and functional statement for the Office of Program Management and Operations (CUH13), Office of the Director (CUH1), National Center for Injury Prevention and Control (CU), insert the following:

Health Communication Science Office (CUH14). (1) Plans, develops, coordinates, and evaluates NCIPCs, publications, graphics, and technical information activities for intentional injury, unintentional injury, and acute care and rehabilitation; (2) disseminates injury control information to public and professional audiences; (3) in conjunction with the CDC Office of the Associate Director for Communication, interacts with the news media to ensure that injury topics are covered accurately and remain high on the public agenda; (4) provides expert consultation on the effective use and design of graphic materials for presentations, publications, and exhibits; (5) designs and produces professional quality graphic materials for use in NCIPC presentations and publications and designs and electronically typesets publications; (6) develops, maintains, and manages a graphics information retrieval system that allows ready access to slides and graphic presentations on injury topics; (7) provides expert consultation on the development and production of publications; (8) manages the clearance and production of NCIPC publications; (9) manages NCIPCs technical information resources, including developing and maintaining injury-related databases and a library of information on injury-related topics; (10) coordinates the centers information sharing activities, including involvement on Internet; (11) serves as NCIPC liaison with the CDC Office of the Associate Director for Communication, and other Centers, Institute, and Offices on matters related to graphics, publications, and technical information resources; and (12) in carrying out these functions, collaborates with other PHS agencies, Federal and state departments and agencies, and private organizations, as appropriate.

Delete in its entirety item (10) of the functional statement for the Office of the Director (CUH1).

Delete in its entirety the first sentence and item (9) of the functional statement for the Extramural Research Program Office (CUHI 6) and insert the following accordingly: The Extramural Research Program Office (ERPO) plans, develops, coordinates, and evaluates extramural research activities in cooperation with centers, divisions, and offices within the Office of Noncommunicable Diseases, Injury and Environmental Health. (9) assists the Office of the Associate Director for Science, CDC, in developing extramural research policies and oversees the implementation of those policies within the center.

Delete item (12) of the functional statement for the Program Implementation and Dissemination Branch (CUHCD) and insert the following: (12) works closely with relevant offices or groups, including the NCIPC Health Communication Science Office and the CDC Office of the Associate Director for Communication to secure appropriate clearance of materials;

Delete in its entirety item (10) of the functional statement for the Office of the Director (CUG1), National Center for Environment Health (CUG), Office of Noncommunicable Diseases, Injury and Environmental Health (CU).

Dated: November 5, 2010.
William P. Nichols,
Chief Operating Officer, Centers for Disease Control and Prevention.

[FR Doc. 2010-28951 Filed 11-16-10; 8:45 am]

BILLING CODE 4160-18-M